DEPARTMENT OF THE INTERIOR

Fish and Wildlife Service

Migratory Bird Hunting; Notice of Intent To Prepare a Supplemental Environmental Impact Statement on the Sport Hunting of Migratory Birds

AGENCY: Fish and Wildlife Service, Interior.

ACTION: Notice of meetings.

SUMMARY: The U.S. Fish and Wildlife Service (Service or we) is issuing this notice to invite public participation in the scoping process for preparing a Supplemental Environmental Impact Statement (EIS) for the Sport Hunting of Migratory Birds under the authority of the Migratory Bird Treaty Act. The SEIS will consider a range of management alternatives for addressing sport hunting of migratory birds under the authority of the Migratory Bird Treaty Act. The Service seeks suggestions and comments on the scope and substance of this supplemental EIS, options or alternatives to be considered, and important management issues. Federal and State agencies and the public are invited to present their views on the subject to the Service. This notice invites further public participation in the scoping process, identifies the location, date, and time of public scoping meetings, and identifies to whom you may direct questions and comments.

DATES: You must submit written comments regarding EIS scoping by May 30, 2006, to the address below. All comments received from the initiation of this process on September 8, 2005, until May 30, 2006, will be considered. Dates for twelve public scoping meetings are identified in the SUPPLEMENTARY INFORMATION section.

ADDRESSES: You should send written comments to the Chief, Division of Migratory Bird Management, U.S. Fish and Wildlife Service, Department of the Interior, MS MBSP-4107-ARLSQ, 1849 C Street, NW., Washington, DC 20240. Alternately, you may fax comments to (703) 358-2217 or e-mail comments to huntingseis@fws.gov. You may inspect comments during normal business hours in room 4107, 4501 North Fairfax Drive, Arlington, Virginia.

FOR FURTHER INFORMATION CONTACT: Brian Millsap, Chief, or Ron W. Kokel, Division of Migratory Bird Management, U.S. Fish and Wildlife Service, (703) 358-1714.

SUPPLEMENTARY INFORMATION: On September 8, 2005, we published a Notice of Intent to prepare a supplemental EIS on the sport hunting of migratory birds (70 FR 53376). For more detailed background information, we refer the reader to this document.

Background and Overview

Migratory game birds are those bird species so designated in bilateral conventions between the United States and Canada, Mexico, Japan, and Russia for the protection and management of these birds. Under the Migratory Bird Treaty Act (16 U.S.C. 703-712) and the Fish and Wildlife Improvement Act of 1978 (16 U.S.C. 7421), the Secretary of the Interior is authorized to determine when “hunting, taking, capture, killing, possession, sale, purchase, shipment, transportation, carriage, or export of any * * * bird, or any part, nest or egg” of migratory game birds can take place, and to adopt regulations for this purpose. These regulations are issued with due regard to “the zones of temperature and the distribution, abundance, economic value, breeding habits, and times and lines of migratory flight of such birds” and compatibility with the conventions between the United States and Canada, Mexico, Japan, and Russia for the protection and management of migratory birds. This responsibility has been delegated to the U.S. Fish and Wildlife Service of the Department of the Interior as the lead Federal agency for managing and conserving migratory birds in the United States.

The Service currently promulgates regulations allowing and governing the hunting of migratory game birds in the families Anatidae (waterfowl), Gruidae (cranes), Rallidae (rails), Scolopacidae (snipe and woodcock), and Columbidae (doves and pigeons). Regulations governing seasons and limits are promulgated annually, in part due to considerations such as the abundance of birds, which can change from year to year, and are developed by establishing the frameworks, or outside limits, for earliest opening and latest closing dates, season lengths, limits (daily bag and possession), and areas for migratory game bird hunting. These “annual” regulations have been promulgated by the Service each year since 1918. Other regulations, termed “basic” regulations (for example, those governing hunting methods), are promulgated once and changed only when a need to do so arises. All hunting regulations are contained in 50 CFR Parts 20 and 92.

In the September 8, 2005, Federal Register, we provided information on the current process for establishing sport hunting regulations, the tribal regulations process, the Alaska subsistence process, and past NEPA considerations (a 1975 EIS and a 1988 supplemental EIS).

Issue Resolution and Environmental Review

We intend to develop a supplemental EIS on the “Issuance of Annual Regulations Permitting the Sport Hunting of Migratory Birds,” beginning the process with our September 8, 2005, announcement. Federal and State agencies, private conservation organizations, and all other interested parties and individuals are invited to participate in the process by presenting their views on the subject. We seek suggestions and comments regarding the scope and substance of this supplemental EIS, particular issues to be addressed and why, and options or alternatives to be considered. In particular, in regard to the scope and substance of this supplemental EIS, we seek comments on the following:

(1) Harvest management alternatives for migratory game birds to be considered,

(2) Limiting the scope of the assessment to sport hunting (i.e., exclusion of the Alaska migratory bird subsistence process), and

(3) Inclusion of basic regulations (methods and means).

We will conduct the development of this supplemental EIS in accordance with the requirements of the National Environmental Policy Act of 1969 as amended (42 U.S.C. 4371 et seq.), other appropriate Federal regulations, and Service procedures for compliance with those regulations. We are furnishing this Notice in accordance with 40 CFR 1501.7, to obtain suggestions and information from other agencies, tribes, and the public on the scope of issues to be addressed in the supplemental EIS.

Public Scoping Meetings

Twelve public scoping meetings will be held on the following dates at the indicated locations and times:

1. March 24, 2006: Columbus, Ohio, at the Hyatt Regency Columbus, 350 North High Street; 1 p.m.

2. March 28, 2006: Memphis, Tennessee, at the Holiday Inn Select Downtown, 160 Union Avenue; 7 p.m.

3. March 30, 2006: Rosenburg, Texas, at the Texas Agricultural Extension Service Education Center, 1402 Band Road, Suite 100, Highway 36; 7 p.m.

4. April 5, 2006: Anchorage, Alaska, at the Howard Johnson Motel, 239 North 4th Avenue; 7 p.m.

5. April 6, 2006: Denver, Colorado, at the Colorado Department of Wildlife, Northeast Region Service Center, Hunter Education Building, 6060 Broadway; 7 p.m.

6. April 10, 2006: Hadley, Massachusetts, at the Northeast Regional Office of the U.S. Fish and Wildlife Service, 300 Westgate Center Drive; 7 p.m.

7. April 12, 2006: Charleston, South Carolina, at the Fort Johnson Marine Laboratory, 217 Fort Johnson Road, James Island; 7 p.m.

8. April 19, 2006: Fargo, North Dakota, at the Best Western Doublewood Inn, 3333 13th Avenue South; 7 p.m.

9. April 20, 2006: Bloomington, Minnesota, at the Minnesota Valley National Wildlife Refuge Visitors Center, 3815 American Boulevard East; 7 p.m.

10. April 24, 2006: Salt Lake City, Utah, at the Utah Division of Wildlife Resources, 1594 West North Temple; 7 p.m.

11. April 26, 2006: Arlington, Virginia, at the U.S. Fish and Wildlife Service, 4401 North Fairfax Drive, Room 200; 1 p.m.

12. April 26, 2006: Sacramento, California, at the California Department of Fish and Game, Auditorium, Resource Building, 1416 Ninth Street; 7 p.m.

At the scoping meetings, you may choose to submit oral and/or written comments. To facilitate planning, we request that if you want to submit oral comments at meetings, send us your name and the meeting location you plan to attend. You should send this information to the location indicated under ADDRESSES. However, you are not required to submit your name prior to any particular meeting in order to present oral comments.

Public Comments Solicited

You may also submit written comments using one of the methods provided under ADDRESSES. All comments must be submitted by the date listed under DATES.

Our practice is to make comments, including names and home addresses of respondents, available for public review during regular business hours. Individual respondents may request that we withhold their home address from the rulemaking record, which we will honor to the extent allowable by law. There also may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

All comments received, including names and addresses, will become part of the public record. Further, all written comments must be submitted on 8.5-by-11-inch paper.

Dated: March 3, 2006.
H. Dale Hall,
Director, U.S. Fish and Wildlife Service.

[FR Doc. E6-3350 Filed 3-8-06; 8:45 am]

BILLING CODE 4310-55-P